DEPARTMENT OF TRANSPORTATION

Federal Railroad Administration

49 CFR Part 240

FRA Docket No. RSOR-9, Notice 13

[RIN 2130-AA74]

Qualification and Certification of Locomotive Engineers; Corrections

AGENCY: Federal Railroad Administration (FRA), DOT.

ACTION: Final rule; corrections.

SUMMARY: FRA published in the Federal Register of November 8, 1999, (64 FR 60966), a document making miscellaneous amendments to its requirements for the qualification and certification of locomotive engineers (49 CFR part 240). Inadvertently, mistakes were made in four different items in that publication.

First, in § 240.7, a revised definition of locomotive is missing a parenthesis.

Second, in § 240.7, an added definition of service has one misplaced quotation mark.

Third, a new § 240.309(e)(6) was published without describing the amendment as a revision of the existing paragraph (e)(6). Without a correction, the section would contain two different paragraphs numbered (e)(6). This document removes the older paragraph (e)(6).

Fourth, two revisions were made to the penalty schedule regarding § 240.123 without describing the amendments. Without a correction, the penalty schedule would not be amended; instead, the revision would be published separately after the penalty schedule.

DATES: Effective on September 29, 2000.

FOR FURTHER INFORMATION CONTACT: Alan H. Nagler, Trial Attorney, Office of Chief Counsel, FRA, 400 Seventh Street, S.W., RCC-11, Mail Stop 10, Washington, DC 20590 (telephone: 202-493-6049).

SUPPLEMENTARY INFORMATION: FRA published a document in the Federal Register of November 8, 1999, (64 FR 60966) amending § 240.7. A revised definition of locomotive was published. However, the revision was missing a parenthesis. A second close parenthesis should have been added prior to the colon.

FRA published a document in the Federal Register of November 8, 1999, (64 FR 60966) amending § 240.7. A definition of service was added. However, the new definition has one misplaced quotation mark. The last sentence should only have quotation marks around the word “filing” instead of quotation marks around the phrase “filing in this section.”

FRA published a document in the Federal Register of November 8, 1999, (64 FR 60966) amending § 240.309. This section was amended by revising paragraphs (e), (e)(3), (e)(5), (e)(7), and (e)(8), removing paragraph (e)(10) and correcting a clerical error, which had created a second paragraph (e), by redesignating this second paragraph (e) as paragraph (h). A paragraph numbered (e)(6) was published without an explanation of how to treat it in the amendatory language. Although this mistake occurred, the preamble in that document explained that FRA intended to revise paragraph (e)(6). This correction removes the old paragraph (e)(6) so that only the revised paragraph (e)(6) that was published on November 8, 1999, will remain part of the rule.

FRA published a document in the Federal Register of November 8, 1999, (64 FR 60966) amending “Appendix A to Part 240-Schedule of Civil Penalties.” The appendix was amended by “adding penalty entries for §§ 240.104 and 240.231 and by revising the penalty entries for §§ 240.105, 240.111, 240.117, 240.121, 240.225, 240.229, 240.305, 240.307, 240.309 and footnote number 1.” Two revisions to § 240.123 were published without any explanation of how to treat them in the amendatory language. By revising the penalty schedule for this section, the paragraph citations will match up better with the paragraphs cited to in the regulatory text. The sum total of these corrections are to change “(a)” to “(b)” and “(b)” to “(c).” Thus, only the revised penalty schedule entry for § 240.123 that was published on November 8, 1999, will remain part of the rule.

Corrections:

1. In rule FR Doc. 99-28930 published on November 8, 1999, (64 FR 60966) make the following correction. On page 60989, in the first column, item 5, add a close parenthesis to the introductory text of the revised definition of locomotive just prior to the colon, so that it reads:

* * * * *

Locomotive means a piece of on-track equipment (other than specialized roadway maintenance equipment or a dual purpose vehicle operating in accordance with § 240.104(a)(2)):

* * * * *

2. In rule FR Doc. 99-28930 published on November 8, 1999, (64 FR 60966) make the following correction. On page 60989, in the second column, item 5, correct the definition of service so that the last sentence reads:

* * * * *

* * * See also the definition of “filing” in this section.

* * * * *

3. In rule FR Doc. 99-28930 published on November 8, 1999, (64 FR 60966) make the following correction. On page 60994, in the third column, item 26, add “(e)(6),” after the phrase “[s]ection 240.309 is amended by revising paragraphs (e) introductory text, (e)(3), (e)(5).”

4. In rule FR Doc. 99-28930 published on November 8, 1999, (64 FR 60966) make the following correction. On page 60995, in the third column, item 30, add “240.123,” after the phrase “Appendix A to part 240 is amended by adding penalty entries for §§ 240.104 and 240.231 and by revising the penalty entries for §§ 240.105, 240.111, 240.117, 240.121.”

Dated: September 21, 2000.
S. Mark Lindsey,
Chief Counsel.

[FR Doc. 00-24706 Filed 9-28-00; 8:45 am]

BILLING CODE 4910-06-P